DEPARTMENT OF HOUSING AND URBAN DEVELOPMENT

[Docket No. FR-5281-N-85]

Notice of Submission of Proposed Information Collection to OMB; Emergency Comment Request Public Housing Capital Fund Recovery Act Reporting

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: November 13, 2009.

ADDRESSES: Interested persons are invited to submit comments regarding this proposal. Comments must be received within seven (7) days from the date of this Notice. Comments should refer to the proposal by name/or OMB approval number and should be sent to: Mr. Ross A. Rutledge, HUD Desk Officer, Office of Management and Budget, New Executive Office Building, Washington, DC 20503; e-mail: Ross A. Rutledge@omb.eop.gov; fax: (202) 395-5806.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents submitted to OMB may be obtained from Ms. Deitzer.

SUPPLEMENTARY INFORMATION: This Notice informs the public that the U.S. Department of Housing and Urban Development (HUD) has submitted to OMB, for emergency processing, a proposed information collection on status reports for Public Housing Capital Fund Recovery Act grants, which are authorized under the American Recovery and Reinvestment Act (ARRA) of 2009. Under the Recovery Act, HUD was allocated $4 billion of additional Capital Funds to be made available to PHAs. Per the Recovery Act, $3 billion was to be distributed by the same formula used for amounts made available in fiscal year 2008. $1 billion was to be distributed by competition for priority investments, including investments that leverage private sector funding or financing for renovations and energy conservation retrofit investments.

This Notice also lists the following information:

Title of Proposal: Public Housing Capital Fund Recovery Act Reporting.

Description of Information Collection: This is a new information collection. The Department of Housing and Urban Development is seeking emergency review of the Paperwork Reduction Act requirements associated with the Public Housing Capital Fund Recovery Act Reporting. Public Housing Agencies (PHAs) must provide information to HUD for the reporting requirements of Capital Fund American Recovery and Reinvestment Act of 2009 (“Recovery Act”) grants. Section 1512 of the Recovery Act details the reporting requirements for the recipients of recovery Act funding. Recipients are to report on the obligation and expenditure of Recovery Act funds, the projects on which those funds have been obligated and expended, an evaluation of the completion status of projects and the number of jobs created and jobs retained by the project.

OMB Control Number: Pending.

Agency Form Numbers: N/A, an automated electronic Microsoft Excel spreadsheet will be used to collect data.

Members of Affected Public: Business or other for-profit, State, Local Government.

Estimation of the total numbers of hours needed to prepare the information collection including number of respondents, frequency of responses, and hours of responses: The estimated number of respondents is 3,496 and the number of respondents is 0.301. The total reporting burden is 2,115 hours.

Authority: The Paperwork Reduction Act of 1995, 44 U.S.C. Chapter 35, as amended.

Dated: October 29, 2009.
Stephen A. Hill,
Director, Office of Investment Strategies and Policy Management.

[FR Doc. E9-26769 Filed 11-5-09; 8:45 am]

BILLING CODE 4210-67-P